DEPARTMENT OF JUSTICE

Antitrust Division

Notice Pursuant to the National Cooperative Research and Production Act of 1993—Medical Technology Enterprise Consortium

Notice is hereby given that, on October 2, 2023, pursuant to Section 6(a) of the National Cooperative Research and Production Act of 1993, 15 U.S.C. 4301 et seq. (“the Act”), Medical Technology Enterprise Consortium (“MTEC”) has filed written notifications simultaneously with the Attorney General and the Federal Trade Commission disclosing changes in its membership. The notifications were filed for the purpose of extending the Act's provisions limiting the recovery of antitrust plaintiffs to actual damages under specified circumstances. Specifically, Advanced Surgical Retractor Systems, Inc., Shavano Park, TX; Biomedical Commercialization LLC, Clifton, VA; Colorado State University, Fort Collins, CO; Corvent Medical, Inc., Fargo, ND; CSSi LifeSciences LLC, Columbia, MD; DexTech Corp., Blue Bell, PA; Enzyre BV, Nijmegen, NLD; ERI Group, Golden, CO; ExcelCoat Technologies, Inc., Frederick, MD; Flambeau Diagnostics LLC, Madison, WI; Georgia Southern University, Statesboro, GA; Global Military Expert Consulting And Instruction LLC dba Spotlight Labs, Camden, NJ; Legionarius LLC, Sudbury, MA; Microbion Corp., Bozeman, MT; Molecular Rebar Design LLC, Austin, TX; MY01, Inc., Montreal, CAN; Nurami Medical, Haifa, ISR; OXOS Medical, Inc., Atlanta, GA; Peptilogics, Inc., Pittsburgh, PA; Phare Bio, Inc., Boston, MA; Pivot Path Solutions LLC, Gaithersburg, MD; Precision Trauma LLC, Columbus, GA; Protinhi B.V., Nijmegen, NLD; Quorum Innovations LLC, Sarasota, FL; Ragged Edge Solutions, Greenville, NC; Resilience Government Services, Inc., Alachua, FL; Safeguard Surgical, Tampa, FL; Sibel Health, Inc., Chicago, IL; SLSCO, Ltd., Galveston, TX; Sophic Synergistics LLC, Houston, TX; Stephenson & Stephenson Research & Consulting, Batavia, OH; Swaza, Inc., Mountain View, CA; University of California Los Angeles, Los Angeles, CA; University of Malta, Msida, MLT; University of Miami, Coral Gables, FL; University of Washington, Seattle, WA; U-Smell-It LLC, Guilford, CT; Vocxi Health, Inc., Arden Hills, MN; Wayne State University, Detroit, MI; and Xheme, Inc., Newton, MA have been added as parties to this venture.

Also, Bionica Labs LLC, Richmond, VA, has withdrawn as a party to this venture.

No other changes have been made in either the membership or planned activity of the group research project. Membership in this group research project remains open, and MTEC intends to file additional written notifications disclosing all changes in membership.

On May 9, 2014, MTEC filed its original notification pursuant to Section 6(a) of the Act. The Department of Justice published a notice in the Federal Register pursuant to Section 6(b) of the Act on June 9, 2014 (79 FR 32999).

The last notification was filed with the Department on July 5, 2023. A notice was published in the Federal Register pursuant to Section 6(b) of the Act on August 23, 2023 (88 FR 57476).

Suzanne Morris,
Deputy Director Civil Enforcement Operations, Antitrust Division.

[FR Doc. 2023-27578 Filed 12-14-23; 8:45 am]

BILLING CODE P